DEPARTMENT OF AGRICULTURE

Submission for OMB Review; Comment Request

July 26, 2021.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by August 30, 2021. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service (NASS)

Title: Agricultural Labor Survey—Substantive Change.

OMB Control Number: 0535-0109.

Summary of Collection: General authority for these data collection activities is granted under U.S. Code Title 7, Section 2204 which specifies that “The Secretary of Agriculture shall procure and preserve all information concerning agriculture which he can obtain . . . by the collection of statistics . . .”. The primary objective of the National Agricultural Statistics Service (NASS) is to provide data users with timely and reliable agricultural production and economic statistics, as well as environmental and specialty agricultural related statistics. To accomplish this objective, NASS relies on the use of diverse surveys that show changes within the farming industry over time.

This is a request to make a substantive change to the currently approved Agricultural Labor docket. In this substantive change, NASS will reduce the sample size and reduce the number of questions being asked. Previously, NASS conducted the Agricultural Labor Survey under a cooperative agreement with the U.S. Department of Labor (DOL). Recently, the DOL cut off funding of the Labor survey, warranting this reduction in sample size and cut in the number of questions asked. NASS will publish the results of the survey, but the publication will resemble the publication that was published on Nov. 15, 2018. The questions that will be removed from the questionnaire are those referencing base wages, base hours worked, overtime wages, overtime hours worked, and bonus wages. NASS will still collect gross wages and total hours worked.

Need and Use of the Information: Agricultural labor statistics are an integral part of the primary function of the National Agricultural Statistics Service (NASS), which is the collection, processing, and dissemination of current State, regional, and national agricultural statistics. Wage rate estimates have been published since 1866 and U.S. farm employment estimates have been published since 1910.

Description of Respondents: Farms and Ranches.

Number of Respondents: 18,050.

Frequency of Responses: Reporting: Varies.

Total Burden Hours: 20,168.

Levi S. Harrell,
Departmental Information Collection Clearance Officer.

[FR Doc. 2021-16180 Filed 7-28-21; 8:45 am]

BILLING CODE 3410-20-P